FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than January 28, 2005.

A. Federal Reserve Bank of St. Louis (Randall C. Sumner, Vice President) 411 Locust Street, St. Louis, Missouri 63166-2034:

1. Joseph Jay Gugger Trust, with Joseph Jay Gugger as trustee, and the Gugger Control Group, which includes, the Joseph J. Gugger Trust, Joseph Jay Gugger as trustee, and the J & M Limited Partnership, Joseph Jay Gugger as General Partner, all of Edwardsville, Illinois, to acquire voting shares of Clover Leaf Financial Corporation, Edwardsville, Illinois, and thereby indirectly acquire Clover Leaf Bank, Edwardsville, Illinois.

Board of Governors of the Federal Reserve System, January 10, 2005.
Robert deV. Frierson,
Deputy Secretary of the Board.

[FR Doc. 05-775 Filed 1-13-05; 8:45 am]

BILLING CODE 6210-01-S